DEPARTMENT OF TRANSPORTATION

Notice of Intent To Prepare an Environmental Assessment for Proposed Rerouting of Regional Jet/Turboprop Aircraft Within Boston Consolidated Terminal Radar Approach Control (TRACON) Airspace

AGENCY: Federal Aviation Administration, DOT.

ACTION: Notice of intent to prepare an environmental assessment.

SUMMARY: The Federal Aviation Administration (FAA), New England Region, is issuing this notice to advise the public, pursuant to the National Environmental Policy Act of 1969, as amended (NEPA), 42 U.S.C. 4332(2)(C) that the FAA intends to prepare an Environmental Assessment (EA) for Proposed Rerouting of Regional Jet/Turboprop Aircraft within Boston Consolidated Terminal Radar Approach Control (TRACON) airspace. The FAA is issuing this Notice of Intent to prepare an EA to facilitate public involvement. The EA will assess the potential environmental impacts of proposed modifications to air traffic routings within the Boston Consolidated TRACON airspace. The FAA is considering a range of alternatives including the proposed action, a no-action alternative, and an intermediate “split” alternative.

DATES: The FAA anticipates publishing the Draft EA in June 2004.

ADDRESSES: Ms. Theresa Flieger, Federal Aviation Administration, 12 New England Executive Park, Burlington, MA 01803; telephone: (781) 238-7524 or Mr. Christopher DePaolo at (781) 238-7533.

SUPPLEMENTARY INFORMATION: The purpose of the FAA's proposed rerouting of regional jet and turboprop aircraft is to reduce and/or eliminate efficiency degradation in the Boston Consolidated TRACON Rockport Sector. The proposed rerouting will move all regional jets and turboprop aircraft making approaches into Boston-Logan International Airport from the north and northeast away from the SCUPP arrival fix east to Boston, to an existing turboprop route over the LWM arrival fix in the vicinity of Lawrence Municipal Airport. Operations over LWM at or above 5000 feet Above Ground Level (AGL) will increase by an average of 29 aircraft per day. From LWM, aircraft will be vectored to various flight tracks depending on the runway in use at Boston-Logan. With the exception of when Boston-Logan is using runways 27/22L, aircraft will merge back with existing tracks above 3000 AGL. FAA expects that the number of operations below 3000 feet AGL approaching Runway 22L will increase by an average of eight aircraft per day. A preliminary noise analysis of the proposed action revealed that communities potentially impacted from procedure changes below 3000 AGL would include: East Boston, Winthrop, Revere, Nahant, Swampscott, Marblehead, Salem, Lynn, Peabody, and Saugus.

Dated: May 13, 2004.
William C. Yuknewicz,
Acting Manager, Air Traffic Division FAA, New England Region.

[FR Doc. 04-11394 Filed 5-19-04; 8:45 am]

BILLING CODE 4910-13-M